DEPARTMENT OF EDUCATION

[Docket No.: ED-2015-ICCD-0057]

Agency Information Collection Activities; Submission to the Office of Management and Budget for Review and Approval; Comment Request; What Works Clearinghouse Formative Feedback

AGENCY: Institute of Education Sciences (IES), Department of Education (ED).

ACTION: Notice.

SUMMARY: In accordance with the Paperwork Reduction Act of 1995 (44 U.S.C. chapter 3501 et seq.), ED is proposing a revision of an existing information collection.

DATES: Interested persons are invited to submit comments on or before August 3, 2015.

ADDRESSES: Comments submitted in response to this notice should be submitted electronically through the Federal eRulemaking Portal at http://www.regulations.gov by selecting Docket ID number ED-2015-ICCD-0057 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Vanessa Anderson, 202-219-1310.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: What Works Clearinghouse Formative Feedback.

OMB Control Number: 1850-0788.

Type of Review: A revision of an existing information collection.

Respondents/Affected Public: Individuals or Households.

Total Estimated Number of Annual Responses: 85,210.

Total Estimated Number of Annual Burden Hours: 1,892.

Abstract: The Institute of Education Sciences (IES) within the U.S. Department of Education is proposing data collection activity as part of the What Works Clearinghouse Feedback Task. The task and its associated efforts are being undertaken by the U.S. Department of Education, Institute of Education Sciences (IES), and is being conducted by Mathematica Policy Research. The intended purpose of the Department of Education (ED), Institute of Education Sciences (IES) WWC feedback task is to collect feedback from users on the relevance, timeliness, quality, and ease of use of the products associated with the What Works Clearinghouse Web site. The results of the data collection will be used to inform improvements in ED program products and services for its customers. The WWC provides educators, policymakers, and the public with a central and trusted source of scientific evidence of what works in education. The WWC aims to make findings from education research easy and accessible through its searchable online repository of intervention reports, single study reviews, and practice guides. There are thousands of empirical studies that claim to identify effective instructional approaches, many using complicated research methods and statistical analyses. This research often yields conflicting results, leaving educators wondering which approach to take. Given the large volume of education research and significant variation in quality, principals and other educators need help identifying reliable research and interpreting findings. Using systematic review processes and evidence standards, the WWC reviews all the research on a topic to identify the most rigorous studies and synthesize the findings from high-quality education research. The WWC has developed three new products that focus on utilizing the WWC and the WWC resources when making key decisions in education. First, the WWC will produce and is developing several videos that describe the purpose of the WWC or how to understand specific materials on the Web site. For example, the WWC has already released a video that addresses how to select a mathematics curriculum. The WWC also developed practice guide summaries which consolidate the information from practice guides into an 8-10 page summary that presents expert recommendations from the field, along with tips on implementing the recommendations. The WWC has already released two of these summaries—Teaching Math to Young Children and Teaching Elementary School Students to Be Effective Writers. Finally, topical blasts consolidate WWC content relevant to a specific education topic. Emails direct users to a dedicated landing page containing links to the relevant content. Findings from the case studies of these topics will be used to improve these and other WWC products going forward. The WWC feedback task will include the following data collection methods: focus groups with WWC users, user feedback web surveys, and data analytics.

Dated: June 29, 2015.
Kate Mullan,
Acting Director, Information Collection Clearance Division, Office of the Chief Privacy Officer, Office of Management.

[FR Doc. 2015-16316 Filed 7-1-15; 8:45 am]

BILLING CODE 4000-01-P